DEPARTMENT OF TRANSPORTATION

Federal Aviation Administration

14 CFR Part 417

[Docket No. FAA-2000-7953; Amendment No. 417]

RIN 2120-AG37

Licensing and Safety Requirements for Launch

AGENCY: Federal Aviation Administration, DOT.

ACTION: Final rule; technical amendment.

SUMMARY: This action corrects reference errors that appeared in a final rule the FAA published in the Federal Register on August 25, 2006. The final rule amended commercial space transportation regulations governing the launch of expendable launch vehicles. In that final rule, the FAA inadvertently referenced incorrect sections. The intent of this action is to correct this minor error in the regulation to ensure the requirement is clear and accurate.

DATES: Effective October 27, 2008.

FOR FURTHER INFORMATION CONTACT: René Rey, Licensing and Safety Division, AST-200, Federal Aviation Administration, 800 Independence Avenue, SW., Washington, DC 20591; telephone (202) 267-7538; e-mail Rene.Rey@faa.gov. For questions regarding legal interpretation, contact Laura Montgomery, AGC-200, (202) 267-3150; e-mail laura.montgomery@faa.gov.

SUPPLEMENTARY INFORMATION: On August 25, 2006, the FAA published a final rule in the Federal Register (71 FR 50537) that, among other changes, amended § 417.25(c)(3). The FAA inadvertently referenced incorrect sections in 14 CFR 417.25(c)(3). As published, this provision requires a post launch report to identify any flight environment not consistent with the maximum predicted environment as required by § 417.307(b) and any measured wind profiles not consistent with the predictions used for the launch, as required by § 417.217(d)(2). These references are incorrect. They should refer launch operators to Appendix D 417.7(b) and Appendix A 417.7(g)(3), respectively.

This amendment will not impose any additional restrictions on operators affected by these regulations.

Technical Amendment

This technical amendment corrects the references in § 417.25(c)(3).

Justification for Immediate Adoption

Because this action merely corrects a reference made in the published rule, the FAA finds that notice and public comment under 5 U.S.C. 553(b) is not necessary. For the same reason, the FAA finds good cause exists under 5 U.S.C. 553(d) for making this rule effective upon publication.

List of Subjects in 14 CFR Part 417

Aviation safety, Reporting and recordkeeping requirements, Rockets, Space transportation and exploration.

Accordingly, Title 14 of the Code of Federal Regulations (CFR) part 417 is amended as follows:

PART 417—LAUNCH SAFETY

1. The authority citation for part 417 continues to read as follows:

Authority: 49 U.S.C. 70101-70121.

2. Amend § 417.25 by revising paragraph (c)(3) to read as follows:

§ 417.25 Post launch report.

(c) * * *

(3) For the launch of launch vehicle flown with a flight safety system, identify any flight environment not consistent with the maximum predicted environment as required by D 417.7(b) and any measured wind profiles not consistent with the predictions used for the launch, as required by § 417.7(g)(3); and

* * * * *

Issued in Washington, DC on October 22, 2008.
Pamela Hamilton-Powell,
Director, Office of Rulemaking.

[FR Doc. E8-25506 Filed 10-24-08; 8:45 am]

BILLING CODE 4910-13-P